DEPARTMENT OF COMMERCE

National Oceanic and Atmospheric Administration

50 CFR Part 679

[I.D. 110303B]

Groundfish Fisheries of the Bering Sea and Aleutian Islands Area and the Gulf of Alaska, King and Tanner Crab Fisheries in the Bering Sea/Aleutian Islands, Scallop and Salmon Fisheries off the Coast of Alaska

AGENCY: National Marine Fisheries Service (NMFS), National Oceanic and Atmospheric Administration (NOAA), Commerce.

ACTION: Notification of a call for proposals for Habitat Areas of Particular Concern (HAPCs) and associated fishery management measures.

SUMMARY: NMFS and the North Pacific Fishery Management Council are soliciting proposals for specific HAPCs that could be identified and managed within Essential Fish Habitat (EFH) pursuant to the Magnuson-Stevens Fishery Conservation and Management Act (Magnuson-Stevens Act). The Council has identified two priority habitat types for consideration during this call for proposals, and the Council plans to solicit additional proposals every three years.

DATES: Proposals must be submitted by January 10, 2004.

ADDRESSES: Proposals should be submitted to the North Pacific Fishery Management Council, 605 W. 4th Ave., Suite 306, Anchorage, AK 99501-2252.

FOR FURTHER INFORMATION CONTACT: Cathy Coon, (907) 271-2809.

SUPPLEMENTARY INFORMATION: The regulatory guidelines for implementing the EFH provisions of the Magnuson-Stevens Act encourage Fishery Management Councils to identify specific types or areas of habitat within EFH as HAPCs based on one or more of the following considerations: (1) The importance of the ecological function provided by the habitat; (2) The extent to which the habitat is sensitive to human-induced environmental degradation; (3) Whether, and to what extent, development activities are, or will be, stressing the habitat type; and (4) The rarity of the habitat type (50 CFR 600.815(a)(8)). HAPC designations provide an opportunity for Councils to highlight especially valuable and/or vulnerable areas within EFH that warrant priority consideration for conservation and management.

NMFS and the Council are developing an environmental impact statement (EIS) for the EFH components of Council fishery management plans (FMPs). As discussed in a previous notification published in the Federal Register (August 20, 2003, 68 FR 50120), the EIS will evaluate alternative approaches for identifying HAPCs, and NMFS and the Council will consider specific HAPC designations in separate National Environmental Policy Act analyses.

The Council has identified the following two HAPC priority areas for 2003:

1. Seamounts in the Exclusive Economic Zone off Alaska, named on NOAA nautical charts, that provide important habitat for managed species.

2. Largely undisturbed, high relief, long lived hard coral beds, with particular attention in the Aleutian Islands, which provide habitat for life stages of rockfish or other important managed species. Based upon best available scientific information, nominated coral sites must have likely or documented presence of Council managed rockfish species, must be largely undisturbed, and must occur outside core fishing areas.

NMFS and the Council are soliciting proposals for specific HAPCs. Proposals will be ranked according to how many of the four HAPC considerations they meet, with the highest ranking given to proposals that meet all four. The Council determined that successful proposals must meet at least two of the four HAPC considerations, and that rarity of the habitat type will be a mandatory criterion of all HAPC proposals. Proposals will be screened by Council staff and reviewed by Council Plan Teams, and then the Council will decide which proposals warrant detailed analysis and public comment. NMFS will promulgate any resulting regulations, supported by appropriate analyses, no later than August 13, 2006. The Council plans to solicit additional HAPC proposals every three years.

Proposals should include the following information:

1. Name of proposer, address, and affiliation;

2. Title of proposal and a single, brief paragraph concisely describing the proposed action;

3. Identification of the habitat and FMP species the HAPC proposal is intended to protect;

4. Statement of purpose and need;

5. Description of whether and how the proposed HAPC addresses the four considerations set out in the EFH regulations;

6. Specific objectives for the proposal, including proposed management measures and their specific objectives, if appropriate;

7. Proposed solutions to achieve these objectives (how might the problem be solved);

8. Methods of measuring progress towards those objectives;

9. Expected benefits to the FMP species of the proposed HAPC, and supporting information or data;

10. Identification of the fisheries, sectors, stakeholders and communities to be affected by the establishment of the proposed HAPC and any available information on socioeconomic costs, including catch data from the proposed area over the last five years;

11. Clear geographic delineation for proposed HAPC (written latitude and longitude reference points and delineation on an appropriately scaled NOAA chart); and

12. Best available information and sources of such information to support the objectives for the proposed HAPC (citations for common information or copies of uncommon information).

Authority: 16 U.S.C. 1801 et seq.

Dated: November 17, 2003.
Bruce C. Morehead,
Acting Director, Office of Sustainable Fisheries, National Marine Fisheries Service.

[FR Doc. 03-29173 Filed 11-20-03; 8:45 am]

BILLING CODE 3510-22-S